CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Field Network Pilot Study of Cost-Sharing in VISTA, Field Guide and Survey (hereinafter “the VISTA Cost-Share Study”) to the Office of Management and Budget (OMB) for review and approval in accordance with the Paperwork Reduction Act of 1995, Public Law 104-13, (44 U.S.C. Chapter 35). Copies of this ICR, with applicable supporting documentation, may be obtained by calling the Corporation for National and Community Service, Mr. John Foster-Bey at (202) 606-6635. Individuals who use a telecommunications device for the deaf (TTY-TDD) may call (202) 606-3472 between 8:30 a.m. and 5 p.m. eastern time, Monday through Friday.

ADDRESSES: Comments may be submitted, identified by the title of the information collection activity, to the Office of Information and Regulatory Affairs, Attn: Ms. Rachel Potter, OMB Desk Officer for the Corporation for National and Community Service, by any of the following two methods within 30 days from the publication in this Federal Register:

(1) By fax to: (202) 395-6974, Attention: Ms. Rachel Potter, OMB Desk Officer for the Corporation for National and Community Service; and

(2) Electronically by e-mail to: Rachel_F._Potter@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g. permitting electronic submissions of responses.

Comments

A 60-day public comment Notice was published in the Federal Registeron November 25, 2005. This comment period ended January 24, 2006. No public comments were received from this notice.

Description: The Corporation has contracted with the Nelson A. Rockefeller Institute of Government to carry out the VISTA Cost-Share Study to analyze the potential for increasing the number of VISTA cost-share members. The VISTA Cost-Share Study will consider the implications of such expansion for the organizations where VISTA members serve (hereinafter “sponsors”), given the Corporation's commitment to serve communities in need.

The VISTA Cost-Share Study will be used to assess the reasons why some sponsors cost-share and others do not; the effects of cost-sharing on sponsors; the potential for sponsors who are not currently cost-sharing to do so successfully in the future; current and potential sources of cost-share funds; and what actions the Corporation should take to help sponsors cost-share. Independent, local field researchers will be employed in collecting the information. During the data-gathering phase the researchers will refer to background information about the Corporation, the VISTA program, and the Field Network method.

Type of Review: New Information Collection.

Agency: Corporation for National and Community Service.

Title: Field Network Pilot Study of Cost-Sharing in VISTA, Field Guide and Survey.

OMB Number: None.

Agency Number: None.

Affected Public: Not-for-profit institutions; State, Local, or Tribal Governments.

Total Respondents: 1557 (Survey, 1491; sponsor interviews, 110; funder interviews, 66).

Frequency: Annually.

Average Time Per Response: Survey, 20 minutes; sponsor interviews, 2 hours; funder interviews, 1 hour.

Estimated Total Burden Hours: 783 hours.

Total Burden Cost (capital/startup): None.

Total Burden Cost (operating/maintenance): None.

Comments submitted in response to this notice will be summarized and/or included in the request for Office of Management and Budget approval of the information collection request; they will also become a matter of public record.

Dated: May 1, 2006.
Robert Grimm,
Director, Department of Research and Policy Development.

[FR Doc. E6-7252 Filed 5-11-06; 8:45 am]

BILLING CODE 6050-$$-P